DEPARTMENT OF COMMERCE

International Trade Administration

[A-580-813]

Stainless Steel Butt-Weld Pipe Fittings From Korea; Notice of Final Results of Antidumping Duty Administrative Review

AGENCY: Import Administration, International Trade Administration, Department of Commerce.

SUMMARY: On November 7, 2005, the Department of Commerce (the Department) published the preliminary results of administrative review of the antidumping order covering stainless steel butt-weld pipe fittings from Korea. See Stainless Steel Butt-Weld Pipe Fittings from Korea; Notice of Preliminary Results of Antidumping Duty Administrative Review, 70 FR 67444 (November 7, 2005) (Preliminary Results). The merchandise covered by this order is stainless steel butt-weld pipe fittings as described in the “Scope of the Order” section of this notice. The period of review (POR) is February 1, 2004, through January 31, 2005. We invited parties to comment on our Preliminary Results. We received no comments. Therefore, the final results are unchanged from those presented in the preliminary results. The final weighted-average dumping margin for the reviewed firm is listed below in the section entitled “Final Results of the Review.”

EFFECTIVE DATE: March 14, 2006.

FOR FURTHER INFORMATION CONTACT: Michael Heaney, or Robert James, AD/CVD Operations, Office 7, Import Administration, International Trade Administration, U.S. Department of Commerce, 14th Street and Constitution Avenue, NW., Washington, DC 20230; (202) 482-4475 or (202) 482-0649 respectively.

SUPPLEMENTARY INFORMATION:

Background

On November 7, 2005, the Department published the preliminary results of the 2004-2005 antidumping duty administrative review of stainless steel butt-weld pipe fittings from Korea. See Preliminary Results. The review covers Sungkwang Bend Company (SKBC), and the period February 1, 2004, through January 31, 2005. In the Preliminary Results, we invited parties to comment. We received no comments.

Scope of the Order

The products covered by this order are certain welded stainless steel butt-weld pipe fittings (pipe fittings), whether finished or unfinished, under 14 inches in inside diameter.

Pipe fittings are used to connect pipe sections in piping systems where conditions require welded connections. The subject merchandise can be used where one or more of the following conditions is a factor in designing the piping system: (1) Corrosion of the piping system will occur if material other than stainless steel is used; (2) contamination of the material in the system by the system itself must be prevented; (3) high temperatures are present; (4) extreme low temperatures are present; (5) high pressures are contained within the system.

Pipe fittings come in a variety of shapes, and the following five are the most basic: “elbows,” “tees,” “reducers,” “stub ends,” and “caps.” The edges of finished fittings are beveled. Threaded, grooved, and bolted fittings are excluded from this review. The pipe fittings subject to this order are classifiable under subheading 7307.23.00 of the Harmonized Tariff Schedule of the United States (HTSUS). Although the HTSUS subheading is provided for convenience and customs purposes, our written description of the scope of this order is dispositive.

Final Results of the Review

We determine the following percentage weighted-average margin exists for the period February 1, 2004 through January 31, 2005:

Manufacturer / Exporter | Weighted Average Margin (percentage)
SKBC | 0.17 percent

Liquidation

The Department shall determine, and U.S. Customs and Border Protection (CBP) shall assess, antidumping duties on all appropriate entries. In accordance with 19 CFR 351.212(b)(1), we have calculated exporter/importer-specific assessment rates. To calculate these rates, we divided the total dumping margins for the reviewed sales by the total entered value of those reviewed sales for each importer. Id. The Department will issue appropriate assessment instructions directly to CBP within 15 days of publication of these final results of review. We will direct CBP to assess the appropriate assessment rate against the entered Customs values for the subject merchandise on each of the importer's entries under the relevant order during the POR.

Cash Deposit Requirements

The following cash deposit requirements will be effective upon publication of this notice of final results of administrative review for all shipments of stainless steel butt-weld pipe fittings from Korea entered, or withdrawn from warehouse, for consumption on or after the date of publication, as provided by section 751(a) of the Tariff Act of 1930, as amended (the Act): (1) Because the cash deposit rate for the reviewed company is de minimis, (see 19 CFR 351.106(c)) no cash deposit shall be required; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 21.2 percent. This rate is the “All Others” rate from the amended final determination in the LTFV investigation. See Antidumping Duty Order: Certain Welded Stainless Steel Butt-Weld Pipe Fittings From Korea, 58 FR 11029 (February 23, 1993). These deposit requirements shall remain in effect until the publication of the final results of the next administrative review.

This notice also serves as a final reminder to importers of their responsibility under 19 CFR 351.402(f)(2) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information

disclosed under APO in accordance with 19 CFR 351.305. Timely written notification of the return or destruction of APO materials or conversion to judicial protective order is hereby requested. Failure to comply with the regulations and terms of an APO is a violation which is subject to sanction.

We are issuing and publishing this notice in accordance with sections 751(a)(1) and 777(i)(1) of the Act.

Dated: March 7, 2006.
David M. Spooner,
Assistant Secretary for Import Administration.

[FR Doc. E6-3618 Filed 3-13-06; 8:45 am]

BILLING CODE 3510-DS-S